DEPARTMENT OF TRANSPORTATION

Federal Aviation Administration

Notice of Intent To Rule on Application To Impose and Use the Revenue From a Passenger Facility Charge (PFC) at Bob Hope Airport, Burbank, CA

AGENCY: Federal Aviation Administration (FAA), DOT.

ACTION: Notice of intent to rule on application.

SUMMARY: The FAA proposes to rule and invites public comment on the application to impose and use the revenue from a PFC at Bob Hope Airport under the provisions of the 49 U.S.C. 40117 and part 158 of the Federal Aviation Regulations (14 CFR part 158).

DATES: Comments must be received on or before May 7, 2004.

ADDRESSES: Comments on this application may be mailed or delivered in triplicate to the FAA at the following address: Federal Aviation Administration, Airports Division, 15000 Aviation Blvd., Room 3012, Lawndale, CA 90261. In addition, one copy of any comments submitted to the FAA must be mailed or delivered to Mr. Dan Feger, Deputy Executive Director at the following address: Burbank-Glendale-Pasadena Airport Authority, 2627 Hollywood Way, Burbank, CA 91505.

Air carriers and foreign air carriers may submit copies of written comments previously provided to the Burbank-Glendale-Pasadena Airport Authority under section 158.23 of Part 158.

FOR FURTHER INFORMATION CONTACT: Ruben Cabalbag, Airports Program Engineer, Airports Division, Federal Aviation Administration, 15000 Aviation Blvd, Room 3012, Lawndale, CA 90261, telephone (310) 725-3621. The application may be reviewed in person at this same location.

SUPPLEMENTARY INFORMATION: The FAA proposes to rule and invites public comment on the application to impose and use the revenue from a PFC at Bob Hope Airport under the provisions of the 49 United States Code (U.S.C.) section 40117 and part 158 of the Federal Aviation Regulations (14 CFR part 158).

On February 27, 2004, the FAA determined that the application to impose and use the revenue from a PFC submitted by the Burbank-Glendale-Pasadena Airport Authority was substantially complete within the requirements of section 158.25 of part 158. The FAA will approve or disapprove the application, in whole or in part, no later than May 28, 2004.

The following is a brief overview of the impose and use application No. 04-06-C-00-BUR:

Level of Proposed PFC: $4.50

Proposed Charge Effective Date: March 1, 2010.

Proposed Charge Expiration Date: July 1, 2010.

Total Estimated PFC Revenue: $4,500,000.

Brief description of the proposed projects: Aircraft rescue and firefighting (ARFF) vehicle replacement; engineered material arresting system (EMAS); Friction measuring device; runway protection zone land acquisition; Luther Burbank Middle School acoustical systems; noise map geographic information system (GIS) database; hangar 3 obstruction removal; rehabilitation of runway and service road; airfield lighting replacement; and terminal roadway paving.

Class or classes of air carriers which the public agency has requested not be required to collect PFCs: Nonscheduled/on-demand air carriers filing FAA Form 1800-31.

Any person may inspect the application in person at the FAA office listed above under FOR FURTHER INFORMATION CONTACT. In addition, any person may, upon request, inspect the application, notice and other documents germane to the application in person at the Burbank-Glendale-Pasadena Airport Authority.

Issued in Lawndale, California, on March 23, 2004.
John P. Milligan,
Acting Manager, Airports Division, Western-Pacific Region.

[FR Doc. 04-7882 Filed 4-6-04; 8:45 am]

BILLING CODE 4910-13-M